INTERNATIONAL TRADE COMMISSION

[Investigation Nos. 731-TA-1186-1187 (Review)]

Certain Stilbenic Optical Brightening Agents From China and Taiwan; Determinations

On the basis of the record ¹ developed in the subject five-year reviews, the United States International Trade Commission (“Commission”) determines, pursuant to the Tariff Act of 1930 (“the Act”), that revocation of the antidumping duty orders on certain stilbenic optical brightening agents from China and Taiwan would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on April 3, 2017 (82 FR 16226) and determined on July 7, 2017 that it would conduct expedited reviews (82 FR 37237, August 9, 2017).

The Commission made these determinations pursuant to section 751(c) of the Act (19 U.S.C. 1675(c)). It completed and filed its determinations in these reviews on October 27, 2017. The views of the Commission are contained in USITC Publication 4737 (October 2017), entitled Certain Stilbenic Optical Brightening Agents from China and Taiwan: Investigation Nos. 731-TA-1186-1187 (Review).

By order of the Commission.
Issued: October 27, 2017.
Lisa R. Barton,
Secretary to the Commission.

[FR Doc. 2017-23797 Filed 10-31-17; 8:45 am]

BILLING CODE 7020-02-P